DEPARTMENT OF COMMERCE

National Oceanic and Atmospheric Administration

50 CFR Part 223

DEPARTMENT OF THE INTERIOR

Fish and Wildlife Service

50 CFR Part 17

[I.D. 022803A]

Endangered and Threatened Wildlife; Revision of the Loggerhead Sea Turtle Recovery Plan

AGENCIES: National Marine Fisheries Service (NMFS), National Oceanic and Atmospheric Administration (NOAA), Commerce, and Fish and Wildlife Service (USFWS), Interior.

ACTION: Notice to announce the revision of the loggerhead sea turtle recovery plan; request for information.

SUMMARY: We, NMFS and USFWS, announce our intention to revise the 1991 recovery plan for the loggerhead sea turtle (Caretta caretta), listed as threatened throughout its range, under the Endangered Species Act of 1973 (ESA), as amended. The 1991 recovery plan addressed recovery needs for the U.S. population of the loggerhead in the northwestern Atlantic Ocean and the Gulf of Mexico. A comprehensive revision of the 1991 recovery plan is needed to incorporate an abundance of new information on the biology and population status of the loggerhead and to provide an updated framework for addressing problems of the species and for prioritizing actions necessary for recovery.

To ensure a comprehensive revision, we are soliciting information on the loggerhead population status and trends, threats and conservation efforts.

DATES: Information related to this notice must be received by May 5, 2003, to be considered in the initial stages of the revision. However, we will accept information and comments submitted after this date, for consideration at later stages in the recovery process, until further notice.

ADDRESSES: Information should be addressed to the National Sea Turtle Coordinator, U.S. Fish and Wildlife Service, 6620 Southpoint Drive South, Suite 310, Jacksonville, FL 32216. Information may also be sent via fax to 904-232-2404 or through the internet website address for the loggerhead recovery plan at http://northflorida.fws.gov/SeaTurtles/loggerhead-recovery/default-loggerhead.htm.

FOR FURTHER INFORMATION CONTACT: Barbara Schroeder (ph. 301-713-1401, fax 301-713-0376, e-mail Barbara.Schroeder@noaa.gov) or Sandy MacPherson (ph. 904-232-2580, fax 904-232-2404, e-mail sandy_macpherson@fws.gov).

SUPPLEMENTARY INFORMATION:

Background

The loggerhead was listed as threatened under the ESA in 1978. Upon listing a species, section 4(f) of the ESA requires the preparation and implementation of a recovery plan and revisions to such plans as necessary. Under section 4(f)(1)(B), each plan, at a minimum, must contain: (a) A description of such site-specific management actions as may be necessary to achieve the plan's goal for the conservation and survival of the species; (b) objective, measurable criteria that, when met, would result in a determination, in accordance with the provisions of this section, that the species be removed from the list; and (c) estimates of the time required and the cost to carry out those measures needed to achieve the plan's goal and to achieve intermediate steps toward that goal.

In addition, recovery plans must include a concise summary of the current status of the species and its life history, and an assessment of the factors that led to population declines and/or which are impeding recovery. The plan must also include a comprehensive monitoring and evaluation program for gauging the effectiveness of recovery measures and overall progress toward recovery.

Conservation and recovery of listed sea turtles, including the loggerhead, are the joint responsibility of NMFS and USFWS. In 1984, we issued a multi-species recovery plan for listed sea turtles in the southeastern United States region. This plan was revisited in the early 1990's culminating in an individual species recovery plan for the loggerhead in the northwestern Atlantic Ocean and Gulf of Mexico in 1991. In 2001, we initiated the process to revise the plan for a second time. An Atlantic Loggerhead Sea Turtle Recovery Team, consisting of species experts, was established to draft this revision.

Since the development of the 1991 plan, significant research has been accomplished and important conservation and recovery activities have been undertaken. As a result, we have a greater knowledge of the species and its status. These advances in our understanding of the loggerhead turtle make a second revision to the recovery plan necessary. The revised recovery plan will serve as a basis for future recovery efforts, guide research to ensure that new information will contribute toward the greatest research needs, and enable effective monitoring to allow us to track the status of the loggerhead and the factors that may affect the species.

A schedule for completing the revised recovery plan is available on the internet website address for the loggerhead recovery plan (see ADDRESSES). Draft sections of the Work in Progress will also be made available on the internet website to provide interested stakeholders an opportunity to review and provide input on the revised plan during its development. Once all sections of the revised plan have been drafted, we will publish a notice of availability of the draft recovery plan in the Federal Register and will formally solicit public comment on the draft prior to finalizing the plan.

To ensure that the revised recovery plan is based on the best available data, we are soliciting information on historical and current abundance; historical and current distribution and movements; population status and trends; genetic stock identification; current or planned activities that may adversely impact the species; and ongoing efforts to protect the loggerhead in the northwestern Atlantic and Gulf of Mexico. We request that all data, information, and comments be accompanied by supporting documentation such as maps, bibliographic references, or reprints of pertinent publications.

All submissions must contain the submitter's name, address, and any association, institution, or business that the person represents. Comments and materials received will be available for public inspection, by appointment, during normal business hours at the USFWS' Jacksonville Field Office (see ADDRESSES).

Our practice is to make comments, including names and home addresses of respondents, available for public review during regular business hours. Respondents may request that we withhold their home address, which we will honor to the extent allowable by law. There also may be circumstances in which we would withhold a respondent's identity, as allowable by law. If you wish for us to withhold your name and/or address, you must state this request prominently at the beginning of your comment. However, we will not consider anonymous comments. To the extent consistent with applicable law, we will make all submissions from organizations or businesses, and from individuals identifying themselves as representatives or officials of organizations or businesses, available for public inspection in their entirety.

Authority: 16 U.S.C. 1531 et seq.

Dated: March 14, 2003.
Phil Williams,
Chief, Endangered Species Division, National Marine Fisheries Service

Dated: March 5, 2003.
Sam D. Hamilton,
Regional Director, Southeast Region, Fish and Wildlife Service.

[FR Doc. 03-6714 Filed 3-19-03; 8:45 am]

BILLING CODE 3510-22-S